DEPARTMENT OF AGRICULTURE

Rural Business-Cooperative Service

Notice of Request for Extension of a Currently Approved Information Collection

AGENCY: Rural Business-Cooperative Service, USDA

ACTION: Proposed collection, comments requested.

SUMMARY: In accordance with the Paperwork Reduction Act of 1995, this notice announces the Rural Business-Cooperative Service's (RBS) intention to request an extension for a currently approved information collection in support of the Rural Cooperative Development Grants program.

DATES: Comments on this notice must be received by October 3, 2016 to be assured of consideration.

FOR FURTHER INFORMATION CONTACT: Susan Horst, Management and Program Analyst, Cooperative Services, Rural Business-Cooperative Service, U.S. Department of Agriculture, Stop 3250, Room 4214, South Agriculture Building, 1400 Independence Avenue SW., Washington, DC 20250-3250. Telephone (202) 260-5952.

SUPPLEMENTARY INFORMATION:

Title: Rural Cooperative Development Grants.

OMB Number: 0570-0006.

Expiration Date of Approval: December 31, 2016.

Type of Request: Intent to extend the clearance for collection of information under RD Instruction 4284-F, Rural Cooperative Development Grants.

Abstract: The primary purpose of the RBS is to promote understanding, use, and development of the cooperative form of business as a viable option for enhancing the income of agricultural producers and other rural residents. The primary objective of the Rural Cooperative Development Grants program is to improve the economic condition of rural areas through cooperative development. Grants will be awarded on a competitive basis to nonprofit corporations and institutions of higher education based on specific selection criteria.

Estimate of Burden: Public reporting burden for this collection of information is estimated to average 15 minutes to 80 hours per response.

Respondents: Nonprofit corporations and institutions of higher education.

Estimated Number of Respondents: 55.

Estimated Number of Responses per Respondent: 8.4.

Estimated Number of Responses: 462.

Estimated Total Annual Burden on Respondents: 6,182 hours.

Copies of this information collection can be obtained from Jeanne Jacobs, Regulations and Paperwork Management Branch, at (202) 692-0040.

Comments:

Comments are invited on: (a) Whether the proposed collection of information is necessary for the proper performance of RBS functions, including whether the information will have practical utility; (b) the accuracy of RBS' estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Comments may be sent to Jeanne Jacobs, Regulations and Paperwork Management Branch, U.S. Department of Agriculture, Rural Development, Stop 0742, 1400 Independence Avenue SW., Washington, DC 20250. All responses to this notice will be summarized and included in the request for Office of Management and Budget approval. All comments will also become a matter of public record.

Dated: July 21, 2016.
Samuel H. Rikkers,
Administrator, Rural Business-Cooperative Service.

[FR Doc. 2016-18497 Filed 8-3-16; 8:45 am]

BILLING CODE P